DEPARTMENT OF COMMERCE

International Trade Administration

[A-122-838]

Notice of Amended Initiation and Amended Preliminary Results of Antidumping Duty Administrative Review: Certain Softwood Lumber Products From Canada

AGENCY: Import Administration, International Trade Administration, Department of Commerce.

ACTION: Notice of amended initiation and amended preliminary results of antidumping duty administrative review.

EFFECTIVE DATE: August 5, 2004.

FOR FURTHER INFORMATION CONTACT: Constance Handley or James Kemp, Office 5, AD/CVD Enforcement, Import Administration, International Trade Administration, U.S. Department of Commerce, 14th Street and Constitution Avenue, NW., Washington, DC 20230; telephone: (202) 482-0631 or (202) 482-5346, respectively.

SUMMARY: The Department of Commerce is amending its notice of initiation of administrative review of the antidumping duty order on certain softwood lumber products from Canada, covering the period May 22, 2002, through April 30, 2003 (the POR) and its notice of preliminary results in the administrative review of the antidumping duty order on certain softwood lumber products from Canada for the POR. See Notice of Initiation of Antidumping Duty Administrative Review, 68 FR 39059, July 1, 2003 (Initiation Notice); and Notice of Preliminary Results of Antidumping Duty Administrative Review and Postponement of Final Results: Certain Softwood Lumber Products From Canada, 69 FR 33235, June 14, 2004 (Preliminary Results). Pursuant to this amendment, we are initiating a review on 22 additional companies. The review-specific average rate for respondents not selected for individual review as calculated in the Preliminary Results will be applicable to these companies.

SUPPLEMENTARY INFORMATION:

Background

On May 1, 2003, the Department of Commerce (the Department) published a notice of opportunity to request the first administrative review of this order. See Antidumping or Countervailing Duty Order, Finding, or Suspended Investigation; Opportunity to Request Administrative Review, 68 FR 23281, May 1, 2003. On May 30, 2003, in accordance with 19 CFR 351.213(b), the petitioner ¹ requested a review of producers/exporters of certain softwood lumber products. Also, between May 7, and June 2, 2003, Canadian producers requested a review on their own behalf or had a review of their company requested by a U.S. importer.

¹ The petitioner in this case is the Coalition for Fair Lumber Imports Executive Committee. We note that during the review, submissions have been made interchangeably by the petitioner itself and by the Coalition for Fair Lumber Imports, a domestic interested party. For ease of reference, we will use the term “petitioner” to refer to submissions by either, although we recognize that the Coalition for Fair Lumber Imports is not the actual petitioner.

On July 1, 2003, the Department published a notice of initiation of administrative review of the antidumping duty order on certain softwood lumber products from Canada, covering the POR. See Initiation Notice.

On June 14, 2004, the Department published a notice of preliminary results of antidumping duty administrative on certain softwood lumber products from Canada, covering the POR. See Preliminary Results. Twenty-two companies for which a timely request for review had been received ² were inadvertently omitted from the Initiation Notice and hence the Preliminary Results. To rectify this inaccuracy, the Department is issuing this notice of amended initiation and amended preliminary results of the antidumping duty administrative review to include the 22 previously omitted companies.

² See letter from Joel R. Junker to the Department, dated May 28, 2003.

Initiation of Review

We are initiating an administrative review of the antidumping duty order on Certain Softwood Lumber Products from Canada, covering the period May 22, 2002, through April 30, 2003 for the following companies. We intend to issue the final results of this review no later than December 13, 2004.

AFA Forest Products Inc.

Associated Cedar Products

Barry Maedel Woods & Timber

Deep Cove Forest Products

Ivis Wood Products

Lazy S Lumber

Louisiana Pacific Corporation

Mary's River Lumber

New West Lumber Ltd.

Quadra Wood Products Ltd.

Schols Cedar Products

Silvermere Forest Products Inc.

Standard Building Products Ltd.

Still Creek Forest Products Ltd.

Stuart Lake Marketing Company

Suncoast Lumber & Milling

Sundance Forest Industries

Taiga Forest Products

Teal-Jones Group

T.F. Specialty Sawmill

Western Cleanwood Preservers Ltd.

Western Wood Preservers Ltd.

Scope of the Review

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) coniferous wood, sawn or chipped lengthwise, sliced or peeled, whether or not planed, sanded or finger-jointed, of a thickness exceeding six millimeters;

(2) coniferous wood siding (including strips and friezes for parquet flooring, not assembled) continuously shaped (tongued, grooved, rabbeted, chamfered, v-jointed, beaded, molded, rounded or the like) along any of its edges or faces, whether or not planed, sanded or finger-jointed;

(3) other coniferous wood (including strips and friezes for parquet flooring, not assembled) continuously shaped (tongued, grooved, rabbeted, chamfered, v-jointed, beaded, molded, rounded or the like) along any of its edges or faces (other than wood moldings and wood dowel rods) whether or not planed, sanded or finger-jointed; and

(4) coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and customs purposes, the written description of the merchandise under review is dispositive.

Softwood lumber products excluded from the scope:

• Trusses and truss kits, properly classified under HTSUS 4418.90.

• I-joist beams.

• Assembled box spring frames.

• Pallets and pallet kits, properly classified under HTSUS 4415.20.

• Garage doors.

• Edge-glued wood, properly classified under HTSUS 4421.90.97.40 (formerly HTSUS 4421.90.98.40).

• Properly classified complete door frames.

• Properly classified complete window frames.

• Properly classified furniture.

Softwood lumber products excluded from the scope only if they meet certain requirements:

• Stringers (pallet components used for runners): if they have at least two notches on the side, positioned at equal distance from the center, to properly accommodate forklift blades, properly classified under HTSUS 4421.90.97.40 (formerly HTSUS 4421.90.98.40).

• Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

• Radius-cut box-spring-frame components, not exceeding 1″ in actual thickness or 83″ in length, ready for assembly without further processing. The radius cuts must be present on both ends of the boards and must be substantial cuts so as to completely round one corner.

• Fence pickets requiring no further processing and properly classified under HTSUS 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more.

• U.S. origin lumber shipped to Canada for minor processing and imported into the United States, is excluded from the scope of this order if the following conditions are met: (1) the processing occurring in Canada is limited to kiln-drying, planing to create smooth-to-size board, and sanding, and (2) if the importer establishes to Customs and Border Protection (CBP)'s satisfaction that the lumber is of U.S. origin.

• Softwood lumber products contained in single family home packages or kits,³ regardless of tariff classification, are excluded from the scope of the orders if the following criteria are met:

³ To ensure administrability, we clarified the language of this exclusion to require an importer certification and to permit single or multiple entries on multiple days as well as instructing importers to retain and make available for inspection specific documentation in support of each entry.

(A) The imported home package or kit constitutes a full package of the number of wooden pieces specified in the plan, design or blueprint necessary to produce a home of at least 700 square feet produced to a specified plan, design or blueprint;

(B) The package or kit must contain all necessary internal and external doors and windows, nails, screws, glue, subfloor, sheathing, beams, posts, connectors and if included in purchase contract decking, trim, drywall and roof shingles specified in the plan, design or blueprint;

(C) Prior to importation, the package or kit must be sold to a retailer of complete home packages or kits pursuant to a valid purchase contract referencing the particular home design plan or blueprint, and signed by a customer not affiliated with the importer;

(D) The whole package must be imported under a single consolidated entry when permitted by CBP, whether or not on a single or multiple trucks, rail cars or other vehicles, which shall be on the same day except when the home is over 2,000 square feet;

(E) The following documentation must be included with the entry documents:

• a copy of the appropriate home design, plan, or blueprint matching the entry;

• a purchase contract from a retailer of home kits or packages signed by a customer not affiliated with the importer;

• a listing of inventory of all parts of the package or kit being entered that conforms to the home design package being entered;

• in the case of multiple shipments on the same contract, all items listed immediately above which are included in the present shipment shall be identified as well.

We have determined that the excluded products listed above are outside the scope of this order provided the specified conditions are met. Lumber products that CBP may classify as stringers, radius cut box-spring-frame components, and fence pickets, not conforming to the above requirements, as well as truss components, pallet components, and door and window frame parts, are covered under the scope of this order and may be classified under HTSUS subheadings 4418.90.40.90, 4421.90.70.40, and 4421.90.98.40. Due to changes in the 2002 HTSUS whereby subheading 4418.90.40.90 and 4421.90.98.40 were changed to 4418.90.45.90 and 4421.90.97.40, respectively, we are adding these subheadings as well.

In addition, this scope language has been further clarified to now specify that all softwood lumber products entered from Canada claiming non-subject status based on U.S. country of origin will be treated as non-subject U.S.-origin merchandise under the countervailing duty order, provided that these softwood lumber products meet the following condition: upon entry, the importer, exporter, Canadian processor and/or original U.S. producer establish to CBP's satisfaction that the softwood lumber entered and documented as U.S.-origin softwood lumber was first produced in the United States as a lumber product satisfying the physical parameters of the softwood lumber scope.⁴ The presumption of non-subject status can, however, be rebutted by evidence demonstrating that the merchandise was substantially transformed in Canada.

⁴ See the scope clarification message (3034202), dated February 3, 2003, to CBP, regarding treatment of U.S.-origin lumber on file in the Central Records Unit, Room B-099 of the main Commerce Building.

Amended Preliminary Results of Review

In the preliminary results, the Department determined a preliminary weighted-average margin for those companies that requested, but were not selected for, individual review. As a result of this review, we preliminarily determine that the following review-specific weighted-average margin exists for the period covering the POR, for the following additional companies:

Producer | Weighted- average margin (percentage)
AFA Forest Products Inc. |
Associated Cedar Products |
Barry Maedel Woods & Timber |
Deep Cove Forest Products |
Ivis Wood Products |
Lazy S Lumber |
Louisiana Pacific Corporation |
Mary's River Lumber |
New West Lumber Ltd. |
Quadra Wood Products Ltd. |
Schols Cedar Products |
Silvemere Forest Products Inc. |
Standard Building Products Ltd. |
Still Creek Forest Products Ltd. |
Stuart Lake Marketing Company |
Suncoast Lumber & Milling |
Sundance Forest Industries |
Taiga Forest Products |
Teal-Jones Group |
T.F. Specialty Sawmill |
Western Cleanwood Preservers Ltd. |
Western Wood Preservers Ltd | 3.98

Assessment

Upon completion of this administrative review, pursuant to 19 CFR 351.212(b), the Department will calculate an assessment rate on all appropriate entries. For the companies requesting a review, but not selected for examination and calculation of individual rates, we will calculate a weighted-average assessment rate based on all importer-specific assessment rates excluding any which are de minimis or margins determined entirely on adverse facts available. Where the assessment rate is above de minimis, we will instruct CBP to assess duties on all entries of subject merchandise by that importer.

Cash Deposit Requirements

The following deposit rate will be effective upon publication of the final results of this administrative review of all shipments of certain softwood lumber products from Canada entered, or withdrawn from warehouse, for consumption on or after the publication date, as provided by section 751(a)(1) of the Tariff Act of 1930 (the Act): (1) for the non-selected companies we will calculate a weighted-average cash deposit rate based on all the company-specific cash deposit rates, excluding de minimis margins or margins determined entirely on adverse facts available; (2) for previously reviewed or investigated companies not participating in this review, the cash deposit rate will continue to be the company-specific rate published for the most recent period; (3) if the exporter is not a firm covered in this review, a prior review, or the less-than-fair-value (LTFV) investigation, but the manufacturer is, the cash deposit rate will be the rate established for the most recent period for the manufacturer of the merchandise and; (4) if neither the exporter nor the manufacturer is a firm covered in this or any previous review conducted by the Department, the cash deposit rate will be 8.43 percent, the “All Others” rate established in the LTFV investigation. At this time the Department is considering instructing CBP to apply the cash deposit rate to the sum of the entered value, countervailing duties and antidumping duties when these items are deducted in determining entered value. These cash deposit requirements, when imposed, shall remain in effect until publication of the final results of the next administrative review.

This notice serves as a preliminary reminder to importers of their responsibility under 19 CFR 351.402(f) to file a certificate regarding the reimbursement of antidumping duties prior to liquidation of the relevant entities during this review period. Failure to comply with this requirement could result in the Secretary's presumption that reimbursement of antidumping duties occurred and the subsequent assessment of double antidumping duties.

This determination is issued and published in accordance with sections 751(a)(1) and 777(i)(1) of the Act.

Dated: July 29, 2004.
James J. Jochum,
Assistant Secretary for Import Administration.

[FR Doc. 04-17911 Filed 8-4-04; 8:45 am]

BILLING CODE 3510-DS-P